DEPARTMENT OF LABOR

Employment and Training Administration

Request for Membership Nominations for the Advisory Committee on Apprenticeship (ACA)

AGENCY: Employment and Training Administration (ETA), Labor.

ACTION: Notice.

SUMMARY: The Acting Secretary of Labor (Secretary) has determined that the renewal of the Advisory Committee on Apprenticeship (hereinafter ACA or Committee) was necessary and in the public interest. The Department of Labor re-established the ACA Charter in 2021, and recently renewed its Charter, with revisions, on May 11, 2023. The Acting Secretary of Labor is now requesting nominations of qualified candidates to be considered for appointment to the ACA for the 2023-2025 membership term.

DATES: All ACA membership nominations must be received by midnight no later than thirty (30) days from the date of this publication.

FOR FURTHER INFORMATION CONTACT: For any questions concerning the ACA nomination process, please contact Ms. Kenya Huckaby, Executive Assistant, Office of Apprenticeship, Employment and Training Administration, at Huckaby.Kenya@dol.gov, with a carbon copy to the ACA email box at advisorycommitteeonapprenticeship@dol.gov, telephone (202) 693-3795 (this is not a toll-free number).

SUPPLEMENTARY INFORMATION: Registered Apprenticeship is a unique public private partnership that is highly dependent on the engagement and involvement of its stakeholders and partners for its ongoing operational effectiveness. Apart from the ACA, there is no single organization or group with the broad representation of employers, labor unions, and public entities available to consider the complexities and relationship of apprenticeship activities to other training efforts or to provide advice on such matters to the Secretary. It is particularly important to have such perspectives as DOL considers the expansion of registered apprenticeship and how best to fundamentally instill a permanent culture of inclusion in our workforce. The ACA's insights and recommendations on the best ways to address critical apprenticeship issues to meet the emerging needs of industry, labor organizations, and the public are critical. To learn additional information about the ACA please visit the ACA's landing page at: https://www.apprenticeship.gov/advisory-committee-apprenticeship.

Membership Composition: The ACA membership will consist of a range of 27-30 voting members with balanced representation of employers or industry associations, labor or joint labor-management organizations, and public entities and/or institutions. The ACA is solely advisory in nature, and will consider testimony, reports, comments, research, evidence, and existing practices as appropriate to develop recommendations for inclusion in its final recommendations to the Secretary. Members of the ACA serve without compensation, but will be allowed travel expenses, including per diem.

The final membership will come from a cross-section of individuals directly affected, interested, and qualified as appropriate to the nature and functions of the ACA. Each ACA member will serve at the pleasure of the Secretary for a specified term. The Secretary may also appoint members to fill any ACA vacancies for the unexpired portions of the term. The National Association of State and Territorial Apprenticeship Directors will be represented by its current President on the public group. Additionally, the Secretary will appoint one of the public members to serve as the ACA Chairperson. After appointments are made, the ACA members will elect two co-chairs—one from the members representing the employers and one from the members representing the labor organizations. Representatives from the U.S. Departments of Commerce, Education, Energy, Health and Human Services, Housing and Urban Development, Transportation, and the Office of Personnel Management will be invited to serve as non-voting, ex officio members. The Acting Assistant Secretary of Labor for ETA will also serve as a non-voting, ex officio member.

Membership Terms: Members will be appointed for a specified term as designated by the Secretary. Appointments to vacancies occurring during the terms of such appointments will be for the unexpired portions of those terms. To the extent permitted by the Federal Advisory Committee Act and other laws, Committee membership should also be consistent with achieving the greatest impact, scope, and credibility among diverse stakeholders. The diversity in such membership includes, but is not limited to, race, gender, disability, sexual orientation, and gender identity.

Candidate Background Checks: In accordance with Departmental policy, all nominees under consideration to serve on the ACA will undergo a candidate background check to ensure there are no adverse legal or enforcement issues with the Department of Labor. Additionally, prior to appointment, final candidates will be required to complete form DLMS 1-900, Appendix A, a self-certification letter regarding criminal background. This form will be shared under separate cover as appropriate.

General Expectations for ACA Members: Candidates for consideration to be members of the ACA must be representative of a constituent base connected to apprenticeship activities. ACA Members should also have:

1. A demonstrated interest in the national apprenticeship system.

2. The ability and readiness to devote time and effort to attend all public ACA meetings, actively participate in ACA deliberations, advocate for the apprenticeship system, and participate in other member activities that are planned. Appointed ACA members will meet publicly on a quarterly basis. The time commitment for these public meetings will range from two to four hours for a virtual meeting and one to two days for an in-person meeting. Meeting locations will vary and consist of a mix between in-person and virtual meetings. Attendance of these quarterly public meetings is mandatory except for limited circumstances. In such limited circumstances, an appointed ACA member will have the opportunity to send a delegate to participate in their place. Delegates should be capable of fully representing the interests of the appointed member and their constituency base. However, ACA membership is not transferable to a delegate and this opportunity should be utilized on a limited and as-needed basis to ensure the balance of perspectives of the appointed membership. Additional tasks of appointed ACA members may include participation in subcommittee meetings, site visits, and/or participation in other group engagement activities. Appointed members, or their delegate in limited circumstances, are expected to attend at least 50% of these additional tasks as scheduled.

3. The ability to analyze issues related to the apprenticeship model and to be a part of the deliberative process of advising the Secretary of Labor regarding innovative and emerging apprenticeship models and best practices.

4. The ability to remain objective and work well as a member of the Committee.

Nomination Process: Nominations received within thirty (30) days from the date of this publication will be given first consideration for membership on the ACA. Nominations received after thirty (30) days from the date of this publication, will be considered for nomination to the Committee as later vacancies occur. Information on how to submit a nomination for the ACA will be posted on the ACA's landing page under the membership tab at https://www.apprenticeship.gov/advisory-committee-apprenticeship. Nominees and/or Nominators will need to submit:

• A copy of the nominee's resume;

• A cover letter that provides the reason(s) for nominating the individual, including a description of the relevant experience and subject-matter expertise of that person concerning the development of a skilled workforce through quality apprenticeship programs, and the member category or categories (i.e., employer, labor, or public) for which the individual would like to be considered. The cover letter must confirm that the ACA nominee has agreed to be nominated and if appointed is willing to serve on the ACA.

• Contact information for the nominee (name, title, business address, business phone, and business email address. Optionally, nominees may also submit letters of support and their LinkedIn profile.

• Information related to the nominee's primary or secondary apprenticeship affiliations as well as industry representation(s).

Please do not include any information in the nomination submission that should not be publicly disclosed. In selecting ACA members, the Secretary will consider individuals nominated in response to this Federal Register notice, as well as other qualified individuals. Nominees will be appointed based upon their demonstrated qualifications, professional experience, and demonstrated knowledge of issues related to the scope and purpose of the ACA, as well as the need to obtain a diverse range of views on this important subject.

Brent Parton,
Acting Assistant Secretary for the Employment and Training Administration.

[FR Doc. 2023-13910 Filed 6-29-23; 8:45 am]

BILLING CODE 4510-FR-P